NUCLEAR REGULATORY COMMISSION

10 CFR Part 72

[NRC-2024-0216]

RIN 3150-AL25

List of Approved Spent Fuel Storage Casks: NAC International, Inc., MAGNASTOR® Storage System, Certificate of Compliance No. 1031, Amendment No. 15; Correction

AGENCY: Nuclear Regulatory Commission.

ACTION: Direct final rule; correction.

SUMMARY: The U.S. Nuclear Regulatory Commission (NRC) is correcting a direct final rule that was published in the Federal Register on March 20, 2025, revising the NAC International, Inc. MAGNASTOR® Storage System listing within the “List of approved spent fuel storage casks” to include Amendment No. 15 to Certificate of Compliance No. 1031. This action is necessary to replace an incorrect phrase in the SUMMARY caption of the document.

DATES: Effective June 3, 2025.

FOR FURTHER INFORMATION CONTACT: Irene Wu, Office of Nuclear Material Safety and Safeguards, telephone: 301-415-1951, email: Irene.Wu@nrc.gov and Donald Habib, telephone: 301-415-1035, email: Donald.Habib@nrc.gov. Both are staff of the U.S. Nuclear Regulatory Commission, Washington, DC 20555-0001.

SUPPLEMENTARY INFORMATION: The NRC may post materials related to this document, including public comments, on the Federal rulemaking website at https://www.regulations.gov under Docket ID NRC-2024-0216. In addition, the Federal rulemaking website allows members of the public to receive alerts when changes or additions occur in a docket folder. To subscribe: (1) navigate to the docket folder (NRC-2024-0216); (2) click the “Subscribe” link; and (3) enter an email address and click on the “Subscribe” link.

Correction

In FR Doc. 2025-04651, appearing on page 13047 in the Federal Register of Thursday, March 20, 2025, in the first column, in the second sentence of the Summary caption, correct the phrase “head load” to read “heat load”.

Dated: March 25, 2025.
For the Nuclear Regulatory Commission.
Araceli Billoch Colon,
Branch Chief, Regulatory Analysis and Rulemaking Support Branch, Division of Rulemaking, Environmental, and Financial Support, Office of Nuclear Material Safety and Safeguards.

[FR Doc. 2025-05457 Filed 3-28-25; 8:45 am]

BILLING CODE 7590-01-P